DEPARTMENT OF ENERGY

Federal Energy Regulatory Commission

[Project No. 13739-001]

Lock+ Hydro Friends Fund XLII, LLC; Notice of Intent To File License Application, Filing of Pre-Application Document, and Approving Use of the Traditional Licensing Process

a. Type of Filing: Notice of Intent to File License Application and Request to Use the Traditional Licensing Process.

b. Project No.: 13739-001.

c. Date Filed: December 23, 2011.

d. Submitted By: Lock+ Hydro Friends Fund XLII, LLC.

e. Name of Project: Braddock Locks and Dam Hydroelectric Project.

f. Location: At the existing Braddock Locks and Dam on the Monongahela River, in Allegheny County, Pennsylvania. The project would occupy United States lands administered by the U.S. Army Corps of Engineers.

g. Filed Pursuant to: 18 CFR 5.3 of the Commission's regulations.

h. Potential Applicant Contact: Mr. Mark R. Stover, Lock+™ Hydro Friends Fund XLII, c/o Hydro Green Energy, LLC, 900 Oakmont Lane, Suite 310, Westmont, IL 60559; (877) 556-6566 ext. 711; email—mark@hgenergy.com

i. FERC Contact: John Mudre at (202) 502-8902; or email at john.mudre@ferc.gov.

j. Lock+ Hydro Friends Fund XLII, LLC filed its request to use the Traditional Licensing Process on December 23, 2011. Lock+ Hydro Friends Fund XLII, LLC provided public notice of its request on December 22, 2011. In a letter dated January 30, 2012, the Director of the Division of Hydropower Licensing approved Lock+ Hydro Friends Fund XLII, LLC's request to use the Traditional Licensing Process.

k. With this notice, we are initiating informal consultation with: (a) The U.S. Fish and Wildlife Service under section 7 of the Endangered Species Act and the joint agency regulations thereunder at 50 CFR, Part 402; and (b) the Pennsylvania State Historic Preservation Officer, as required by section 106, National Historic Preservation Act, and the implementing regulations of the Advisory Council on Historic Preservation at 36 CFR 800.2.

l. With this notice, we are designating Lock+ Hydro Friends Fund XLII, LLC as the Commission's non-federal representative for carrying out informal consultation, pursuant to section 7 of the Endangered Species Act, and section 106 of the National Historic Preservation Act.

m. Lock+ Hydro Friends Fund XLII, LLC filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

o. Register online at http://www.ferc.gov/docs-filing/esubscription.asp to be notified via email of new filing and issuances related to this or other pending projects. For assistance, contact FERC Online Support.

Dated: February 10, 2012.
Kimberly D. Bose,
Secretary.

[FR Doc. 2012-3662 Filed 2-15-12; 8:45 am]

BILLING CODE 6717-01-P